DEPARTMENT OF COMMERCE

International Trade Administration

[A-570-932]

Certain Steel Threaded Rod From the People's Republic of China: Notice of Court Decision Not in Harmony With Final Results of Administrative Review and Notice of Amended Final Results of Administrative Review

SUMMARY: On February 7, 2013, the United States Court of International Trade (“CIT”) sustained the Department of Commerce's (“Department”) results of redetermination, which granted a separate rate to Gem-Year Industrial Co., Ltd. (“Gem-Year”), in the 2008-2010 administrative review of the antidumping duty order on certain steel threaded rod (“steel threaded rod”) from the People's Republic of China (“PRC”),¹ pursuant to the CIT's remand order in Hubbell Power Systems, Inc. v. United States, Court No. 11-00474, Slip Op. 12-123 (CIT 2012) (“Hubbell”). Consistent with the decision of the United States Court of Appeals for the Federal Circuit (“CAFC”) in Timken,² as clarified by Diamond Sawblades,³ the Department is notifying the public that the final judgment in this case is not in harmony with the Department's Final Results and is amending the Final Results.⁴

¹ See Hubbell Power Systems, Inc. v. United States, Court No. 11-00474, Slip Op. 13-20 (February 7, 2013) (“Final Remand”); Final Results of Remand Redetermination Pursuant To Remand Order (“Redetermination”), Court No. 11-00474, dated December 18, 2012.

² See Timken Co. v. United States, 893 F.2d 337 (Fed. Cir. 1990) (“Timken”).

³ See Diamond Sawblades Mfrs. Coalition v. United States, 626 F.3d 1374 (Fed. Cir. 2010) (“Diamond Sawblades”).

⁴ See Certain Steel Threaded Rod from the People's Republic of China: Final Results and Final Partial Rescission of Antidumping Duty Administrative Review, 76 FR 68400 (November 4, 2011) (“Final Results”) (review covering the period October 8, 2008, through March 31, 2010).

DATES: Effective Date: February 19, 2013.

FOR FURTHER INFORMATION CONTACT: Seth Isenberg, Office 9, AD/CVD Operations, Import Administration, International Trade Administration, U.S. Department of Commerce, 14th Street and Constitution Avenue NW., Washington, DC 20230; telephone: (202) 482-0588.

SUPPLEMENTARY INFORMATION: On November 4, 2011, the Department issued its Final Results.⁵ In the Final Results, the Department rescinded the review with respect to Gem-Year, noting that it had no suspended entries during the period of review (“POR”).⁶

⁵ Id.

⁶ See Final Results, and accompanying Issues and Decision Memorandum at Comment 1.

In Hubbell, the CIT remanded the Final Results to the Department to reconsider its rescission of the review with respect to Gem-Year.⁷ The Department then issued a remand redetermination finding that, while Gem-Year had no suspended entries during the POR, it demonstrated its independence from the government of the PRC and was qualified to receive a separate rate.⁸ In its Redetermination, the Department assigned the separate rate of 55.16 percent to Gem-Year.⁹

⁷ See Hubbell, at 6-19.

⁸ See Redetermination.

⁹ Id.

On February 7, 2013, the CIT sustained the Department's Redetermination and entered final judgment accordingly.¹⁰

¹⁰ See Hubbell Power Systems, Inc. v. United States, Court No. 11-00474, Slip Op. 13-20 (February 7, 2013).

Timken Notice

In its decision in Timken, 893 F.2d at 341, as clarified by Diamond Sawblades, the CAFC held that, pursuant to section 516A(e) of the Tariff Act of 1930, as amended (“the Act”), the Department must publish a notice of a court decision that is not “in harmony” with a Department determination and must suspend liquidation of entries pending a “conclusive” court decision. The CIT's February 7, 2013, judgment sustaining the Department's Redetermination granting a separate rate to Gem-Year constitutes a final decision of that court that is not in harmony with the Department's Final Results. This notice is published in fulfillment of the publication requirements of Timken. Accordingly, the Department will continue the suspension of liquidation of the subject merchandise pending the expiration of the period of appeal, or if appealed, pending a final and conclusive court decision.

Amended Final Results

Because there is now a final court decision with respect to the Final Results, the Department is amending its Final Results. The Department finds the following revised margin to exist:

Steel Threaded Rod From the PRC
Exporter | Weighted-average margin (percent)
Gem-Year Industrial Co., Ltd. | 55.16

For Gem-Year, the cash deposit rate will be the rate listed above and the Department will instruct U.S. Customs and Border Protection (“CBP”) accordingly. If the CIT's ruling is not appealed or, if appealed, upheld by the CAFC, the Department will also instruct CBP to assess antidumping duties on entries of the subject merchandise exported by Gem-Year during the POR at the rate listed above.

This notice is issued and published in accordance with sections 516A(e)(1), 751(a)(1), and 777(i)(1) of the Act.

Dated: February 25, 2013.
Paul Piquado,
Assistant Secretary for Import Administration.

[FR Doc. 2013-04938 Filed 3-1-13; 8:45 am]

BILLING CODE P